DEPARTMENT OF COMMERCE

Census Bureau

Service Annual Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 29, 2003.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Ruth Bramblett, U.S. Census Bureau, Room 2775-FOB 3, Washington, DC 20233-6500, (301) 763-7089 or via e-mail at ruth.ann.bramblett@census.gov.

SUPPLEMENTARY INFORMATION:

I. Abstract

Today, about 50 percent of all economic activity is accounted for by services that are narrowly defined to exclude retail and wholesale trade. The Census Bureau currently measures the total output of these selected service industries annually in its Service Annual Survey. This survey now covers all or some of the following eight sectors: Transportation and Warehousing; Information; Finance and Insurance; Real Estate and Rental and Leasing; Professional, Scientific, and Technical Services; Administration and Support and Waste Management and Remediation Services; Health Care and Social Assistance; Arts, Entertainment, and Recreation; and Other Services.

The Census Bureau proposes an expansion of the Service Annual Survey to provide data on product composition of service industry output and to provide data that will improve the quality of value-added measures for these service industries.

We will begin to implement, incrementally, the collection of detailed service products defined in the provisional North American Product Classification System (NAPCS) into the 2003 Service Annual Survey. Provisional NAPCS products were added to the 2001 Service Annual Survey for most of the Information Sector (NAICS 51, except 512) and Computer Systems Design and Related Services (NAICS 5415). For 2003, we plan to add provisional NAPCS products to the Motion Picture and Sound Recording Industries (NAICS 512) and to selected Financial Services (NAICS 5231 and 5239). In the 2004 Service Annual Survey, we will begin collecting NAPCS product detail for Professional, Scientific, and Technical Services (NAICS 54); Administrative Support and Waste Management and Remediation Services (NAICS 56); and Hospitals and Nursing and Residential Care Facilities (NAICS 622 and 623). We will complete NAPCS product coverage of all remaining industries in the 2005 Service Annual Survey.

We also plan to collect annual data on the cost of selected purchased services and materials in the 2003 Service Annual Survey for the following: Information (NAICS 51); selected Financial Services (NAICS 5231 and 5239); Professional, Scientific, and Technical Services (NAICS 54); Administrative and Support and Waste Management and Remediation Services (NAICS 56); and Hospitals and Nursing and Residential Care Facilities (NAICS 622 and 623). For the 2004 survey, we will begin collecting these data for all remaining industries covered in the Service Annual Survey. Key data items include the cost of materials and supplies other than for resale and contract labor; and purchased telecommunications services, software and data processing services, management and consulting services, fuels, electricity, lease and rental payments, and all other purchased services. The availability of these data will greatly improve the quality of the intermediate-inputs and value-added estimates in BEA's annual input-output and GDP by industry accounts. Annual data on purchased services and materials will also be used as indicators to update census year data collected on the Business Expenses Survey.

The Census Bureau is authorized by Title 13, United States Code, to conduct surveys necessary to furnish current data on subjects covered by the major censuses. These surveys provide continuing and timely national statistical data for the period between economic censuses.

The Bureau of Economic Analysis (BEA), the primary Federal user of these annual program statistics, uses the information in developing the national income and product accounts, compiling benchmark and annual input-output tables, and computing Gross Domestic Product (GDP) by industry. Agencies of the U.S. Department of Transportation (DOT) use the transportation related data for policy development and program management and evaluation. The Bureau of Labor Statistics (BLS) uses the data as inputs to its Producer Price Indexes and in developing productivity measurements. The Centers for Medicare and Medicaid Services (CMS) uses the health related data in the development of the National Health Expenditure Accounts. The Federal Communications Commission (FCC) uses the broadcasting and telecommunications data as a means for assessing FCC policy. The Census Bureau uses the data to provide new insight into changing structural and cost conditions that will impact the planning and design of future economic census questionnaires. Private industry also uses the data as a tool for marketing analysis.

Data are collected from all of the largest firms and from a sample of small- and medium-sized businesses selected using a stratified sampling procedure. The samples are reselected periodically, generally at 5-year intervals. The largest firms continue to be canvassed when the sample is re-drawn, while nearly all of the small- and medium-sized firms from the prior sample are replaced. We collect these data by using a mail-out/mail-back survey questionnaire.

II. Method of Collection

We collect this information by mail, fax, and telephone follow-up.

III. Data

OMB Number: 0607-0422.

Form Number: The Service Annual Survey program consists of 260 forms which are too numerous to list here.

Type of Review: Regular Submission.

Affected Public: Businesses or other for-profit organizations, not-for-profit institutions, and Government hospitals.

Estimated Number of Respondents: 50,000.

Estimated Time Per Response: On average, we expect 1 hour and 30 minutes as an estimate.

Estimated Total Annual Burden Hours: 58,249 hours.

Estimated Total Annual Cost: The cost to the respondents for fiscal year 2004 is estimated to be $1,270,993 based on the median hourly salary of $21.82 for accountants and auditors. (Occupational Employment Statistics—Bureau of Labor Statistics “2001 National Occupational Employment and Wage Estimates”) http://www.bls.gov/oes/2001/oes132011.htm.

Respondent's Obligation: Mandatory.

Legal Authority: Title 13, United States Code; Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 25, 2003.
Madeleine Clayton,
Management Analyst, Office of the Chief Information Officer.

[FR Doc. 03-19421 Filed 7-29-03; 8:45 am]

BILLING CODE 3510-07-P